FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 2, 2014.

A. Federal Reserve Bank of Chicago (Colette A. Fried, Assistant Vice President) 230 South LaSalle Street, Chicago, Illinois 60690-1414:

1. Kimberly L. Johnson, Naples, Florida, as co-trustee of the RFS 2010 Irrevocable Trust F/B/O Ralph C. Stayer, together with Lisa M. Reilly, Naples, Florida, as the co-trustee of the Shelly A. Stayer 2010 Childrens Trust, to be added to the Stayer Family Control Group; to acquire voting shares of Hometown Bancorp, Ltd., and indirectly acquire voting shares of Hometown Bank, both in Fond du Lac, Wisconsin.

Board of Governors of the Federal Reserve System, August 12, 2014.
Michael J. Lewandowski,
Associate Secretary of the Board.

[FR Doc. 2014-19375 Filed 8-14-14; 8:45 am]

BILLING CODE 6210-01-P